DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Requirements for Patent Applications Containing Nucleotide Sequence and/or Amino Acid Sequence Disclosures.

Form Number(s): None.

Agency Approval Number: 0651-0024.

Type of Request: Revision of a currently approved collection.

Burden: 29,856 hours annually.

Number of Respondents: 23,750 responses per year.

Avg. Hours Per Response: The USPTO estimates that it will take the public approximately 1 hour and 20 minutes (1.33 hours) to gather the necessary information, prepare the paper sequence listing, and submit it to the USPTO. The USPTO also estimates that it will take the public approximately 1 hour to prepare and submit a sequence listing on compact disc (CD) and approximately 10 minutes (0.17 hours) to prepare and submit a sequence listing electronically over the Internet.

Needs and Uses: The guidelines for submitting sequence listing data for national and international biotechnology patent applications are outlined in 37 CFR 1.821-1.825 and World Intellectual Property Organization (WIPO) Standard ST.25 (1998). Applicants must submit a copy of the sequence listing in the prescribed standard format and another copy that is in computer-readable form. The sequence listings may be submitted on paper, CD, or electronically over the Internet. The USPTO uses the sequence listings to determine the patentability of associated applications and to support the publication of applications and issued patents. Applicants use sequence data when preparing biotechnology patent applications and may also search sequence listings after publication.

Affected Public: Individuals or households, businesses or other for-profits, not-for-profit institutions, farms, the Federal Government, and state, local, or tribal governments.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, Data Administration Division, 703-308-7400, U.S. Patent and Trademark Office, PO Box 1450, Alexandria, VA 22313, Attn: CPK 3 Suite 310; or by e-mail at susan.brown@uspto.gov.

Written comments and recommendations for the proposed information collection should be sent on or before August 21, 2003, to David Rostker, OMB Desk Officer, Room 10202, New Executive Office Building, 725 17th Street NW., Washington, DC 20503.

Dated: July 15, 2003.
Susan K. Brown,
Records Officer, USPTO, Office of the Chief Information Officer, Office of Data Architecture and Services, Data Administration Division.

[FR Doc. 03-18585 Filed 7-21-03; 8:45 am]

BILLING CODE 3510-16-P